DEPARTMENT OF ENERGY

Federal Energy Regulatory Commission

[Docket No. AD21-15-000]

Joint Federal-State Task Force on Electric Transmission; Notice of Meeting and Agenda

As first announced in the Commission's March 22, 2022 Notice in the above-captioned docket,¹ the third public meeting of the Joint Federal-State Task Force on Electric Transmission (Task Force) will be held virtually on Friday, May 6, 2022, from approximately 10:00 a.m. to 4:00 p.m. Eastern time. Commissioners may attend and participate in this meeting. Attached to this Notice is an agenda for the meeting.

¹ Joint Fed.-State Task Force on Elec. Transmission, Notice, Docket No. AD21-15-000 (issued Mar. 22, 2022).

Discussions at the meeting may involve issues raised in proceedings that are currently pending before the Commission. These proceedings include, but are not limited to:

PPL Electric Utilities Corporation | Docket No. ER22-1606-000.
Southwest Power Pool, Inc.; Midcontinent Independent System Operator, Inc | Docket No. ER22-1533-000; ER22-1535-000.
El Paso Electric Company | Docket No. ER22-1495-000.
NSTAR Electric Company | Docket No. ER22-1247-000.
New York Independent System Operator, Inc.; Niagara Mohawk Power Corporation | Docket Nos. ER22-1072-000; ER22-1073-000.
Midcontinent Independent System Operator, Inc | Docket No. ER22-995-000.
PJM Interconnection, LLC | Docket No. ER22-902-000.
PacifiCorp | Docket No. ER22-834-000.
Midcontinent Independent System Operator, Inc | Docket No. ER22-477-000; ER22-477-001.
Southwest Power Pool, Inc | Docket No. ER22-822-001.
Milligan 3 Wind, LLC | Docket No. ER22-667-001.
Broad River Energy, LLC | Docket No. ER22-312-000.
Salt Creek Solar LLC v. Southwest Power Pool, Inc | Docket No. EL22-11-000.
Salt Creek Solar, LLC | Docket No. ER21-2878-000.
Midcontinent Independent System Operator, Inc | Docket No. ER21-2793-000; ER21-2793-001.
PJM Interconnection, LLC | Docket No. ER21-2282-000.
New York Independent System Operator, Inc | Docket No. ER21-1647-002.
Kendall County Solar Project, LLC v. PJM Interconnection, LLC | Docket No. EL21-95-000.
ISO New England, Inc | Docket No. EL21-94-000.
SOO Green HVDC Link ProjectCo, LLC v. PJM Interconnection, LLC | Docket No. EL21-85-000; EL21-103-000.
Tenaska Clear Creek Wind v. Southwest Power Pool, Inc | Docket No. EL21-77-000; EL21-77-001.
Central Hudson Gas & Electric Corporation v. New York Independent System Operator, Inc | Docket No. EL21-66-001.
Neptune Regional Transmission System, LLC and Long Island Power Authority v. PJM Interconnection, LLC | Docket No. EL21-39-000.
NECEC Transmission LLC v. NextEra Energy Resources, LLC | Docket No. EL21-6-000.
NextEra Energy Seabrook, LLC | Docket No. EL21-3-000.

The meeting will be open to the public for listening and observing and on the record. There is no fee for attendance and registration is not required. This conference will be transcribed. Transcripts will be available for a fee from Ace Reporting, 202-347-3700.

Commission conferences are accessible under section 508 of the Rehabilitation Act of 1973. For accessibility accommodations, please send an email to accessibility@ferc.gov or call toll free 1-866-208-3372 (voice) or 202-208-8659 (TTY), or send a fax to 202-208-2106 with the required accommodations.

More information about the Task Force, including frequently asked questions, is available here: https://www.ferc.gov/TFSOET. For more information about this meeting, please contact: Gretchen Kershaw, 202-502-8213, gretchen.kershaw@ferc.gov; or Jennifer Murphy, 202-898-1350, jmurphy@naruc.org. For information related to logistics, please contact Benjamin Williams, 202-502-8506, benjamin.williams@ferc.gov; or Rob Thormeyer, 202-502-8694, robert.thormeyer@ferc.gov.

For more information about this Notice, please contact: Gretchen Kershaw (Legal Information), Office of the General Counsel, (202) 502-8213, Gretchen.Kershaw@ferc.gov.

Dated: April 22, 2022.
Debbie-Anne A. Reese,
Deputy Secretary.

[FR Doc. 2022-09122 Filed 4-27-22; 8:45 am]

BILLING CODE 6717-01-P